FEDERAL RESERVE SYSTEM

12 CFR Part 272

Federal Open Market Committee; Rules of Procedure

AGENCY: Federal Open Market Committee.

ACTION: Final rule.

SUMMARY: The Federal Open Market Committee is amending its Rules of Procedure to replace the terms “Chairman” and “Vice Chairman” with “Chair” and Vice Chair,” respectively.

DATES: Effective February 26, 2021.

FOR FURTHER INFORMATION CONTACT: Matthew Luecke, Deputy Secretary of the Federal Open Market Committee, (202) 452-2576, 20th and C Streets NW, Washington, DC 20551; or Alye S. Foster, Deputy Associate General Counsel (202-452-5289), Legal Division, Board of Governors of the Federal Reserve System.

SUPPLEMENTARY INFORMATION: The Federal Open Market Committee (Committee) is replacing the references in its Rules of Procedure to “Chairman” and “Vice Chairman,” with the gender-neutral equivalent terms of “Chair” and “Vice Chair”. Although the terms “Chairman” and “Vice Chairman” are referenced in the Federal Reserve Act, traditionally these terms have been used to refer to persons regardless of gender. As the terms are not intended to be and, in practice, are not gender-specific, the Committee is replacing of the terms “Chairman” and “Vice Chairman” in the Committee's Rules of Procedure with their gender-neutral equivalents of “Chair” and “Vice Chair,” respectively. This change also aligns the Committee's Rules of Procedure with its practice.

Because the amended rule relates solely to the internal organization, procedure, or practice of the Committee, the public notice, public comment, and delayed effective date provisions of the Administrative Procedure Act do not apply to the amended rule. See 5 U.S.C. 553(b) and (d). Because public notice and comment is not required, the Regulatory Flexibility Act, 5 U.S.C. 601 et seq., also does not apply to the amended rule.

Authority and Issuance

For the reasons set forth in the SUPPLEMENTARY INFORMATION, the Federal Open Market Committee amends 12 CFR part 272 to read as follows:

PART 272—RULES OF PROCEDURE

1. The authority citation for part 272 continues to read as follows:

Authority: 5 U.S.C. 552.

PART 272—[AMENDED]

2. In part 272, revise all references to “Chairman” and “Vice Chairman” to read “Chair” and “Vice Chair”, respectively.

By order of the Federal Open Market Committee.
Matthew M. Luecke,
Deputy Secretary, Federal Open Market Committee.

[FR Doc. 2021-04039 Filed 2-25-21; 8:45 am]

BILLING CODE 6210-01-P